ENVIRONMENTAL PROTECTION AGENCY

[FRL-7237-8]

Agency Information Collection Activities: Submission for OMB Review; Comment Request; NESHAP Subpart HH: National Emission Standards for Hazardous Air Pollutants (NESHAP) From Oil and Natural Gas Production

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP Subpart HH: National Emission Standards for Hazardous Air Pollutants (NESHAP) From Oil and Natural Gas Production; OMB Number 2060-0417; expiration date July 31, 2002. The ICR describes the nature of the information collection and its expected burden and cost; where appropriate, it includes the actual data collection instrument.

DATES: Comments must be submitted on or before July 26, 2002.

ADDRESSES: Send comments on the Agency's need for this information, the accuracy of the provided burden estimates, and any suggested methods for minimizing a respondent burden, including through the use of automated collection techniques to Susan Auby, Collection Strategies Division (Mail Code 2822T), Office of Environmental Information, United States Environmental Protection Agency, 1200 Pennsylvania Avenue, NW., Washington, DC 20460-0001; and to the Office of Information and Regulatory Affairs, Office of Management and Budget, 725 17th Street, NW., Washington, DC 20503, Attention: Desk Officer for EPA. Include the EPA ICR number 1788.03 and OMB Control Number 2060-0417 in any correspondence.

FOR FURTHER INFORMATION: For a copy of the ICR contact Susan Auby at EPA by phone at (202) 566-1672 by email at auby.susan@epa.gov, or download off the Internet at http://www.epa.gov/icr and refer to EPA ICR No.1788.03. For technical questions about the ICR contact Dan Chadwick of the Office of Compliance at (202) 564-7054 or via E-mail at chadwick.dan@epa.gov.

SUPPLEMENTARY INFORMATION: Title: NESHAP Subpart HH: National Emission Standards for Hazardous Air Pollutants (NESHAP) From Oil and Natural Gas Production (OMB Control No. 2060-0417 ; EPA ICR No. 1788.03) expiring 7/31/2002. This is a request for extension of a currently approved collection.

Abstract: The National Emission Standards for Hazardous Air Pollutants (NESHAP), for the regulations published at 40 CFR part 63, subpart HH were proposed on February 6, 1998, and promulgated on June 17, 1999. These regulations apply to the following facilities in 40 CFR part 63, subpart HH: Facilities that are major sources or area sources of hazardous air pollutants (HAP) that process, upgrade, or store hydrocarbon liquids prior to the point of custody transfer; or that process, upgrade, or store natural gas prior to the point at which natural gas enters the natural gas transmission and storage source category, or is delivered to a final end user, and that commence construction, modification or reconstruction after the date of proposal. Specifically exempted from this regulation are oil and natural gas production wells. This information is being collected to assure compliance with 40 CFR part 63, subpart HH. In general, all NESHAP standards require initial notifications, performance tests, and periodic reports. Owners or operators are also required to maintain records of the occurrence and duration of any start-up, shutdown, or malfunction in the operation of an affected facility, or any period during which the monitoring system is inoperative. These notifications, reports, and records are essential in determining compliance, and are required of all sources subject to NESHAP.

Any owner or operator subject to the provisions of this part shall maintain a file of these records, and retain the file for at least 5 years following the date of such occurrences, maintenance reports, and records. All reports are sent to the delegated State or local authority. In the event that there is no such delegated authority, the reports are sent directly to the EPA Regional Office.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on January 30, 2002 (67 FR 4421). No comments were received.

Burden Statement: The annual public reporting and recordkeeping burden for this collection of information is estimated to average 6.9 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and Operators of Oil and Natural Gas Production Facilities.

Estimated Number of Respondents: 498.

Frequency of Response: On Occasion, Semi-Annually, Annually.

Estimated Total Annual Hour Burden: 29,489 hours.

Estimated Total Annualized Capital and Operating & Maintenance Cost Burden: $567,093.

Send comments on the Agency's need for this information, the accuracy of the provided burden estimates, and any suggested methods for minimizing respondent burden, including through the use of automated collection techniques, to the addresses listed above. Please refer to EPA ICR No. 1788.03 and OMB Control No. 2060-0417 in any correspondence.

Dated: June 13, 2002.
Oscar Morales,
Director, Collection Strategies Division.

[FR Doc. 02-16136 Filed 6-25-02; 8:45 am]

BILLING CODE 6560-50-U